DEPARTMENT OF HEALTH AND HUMAN SERVICES

Centers for Disease Control and Prevention

[Program Announcement 03081]

Using Private Provider Partnerships To Strengthen the Immunization Message; Notice of Availability of Funds

A. Authority and Catalog of Federal Domestic Assistance Number

This program is authorized under section 317(k)(1) of the Public Health Service Act (42 U.S.C. 247b(k)(1)), as amended. The Catalog of Federal Domestic Assistance number is 93.185.

B. Purpose

The Centers for Disease Control and Prevention (CDC) announces the availability of fiscal year (FY) 2003 funds for a cooperative agreement program for national private health care provider organizations to inform their constituency on immunization issues, identify best practices and successful immunization programs, promote the improvement of immunization coverage in primary care settings, and enhance and create partnerships with state and local health departments, non-governmental organizations, and other professional organizations to collaborate on immunization programs around the country. This program addresses the “Healthy People 2010” focus area of Immunization and Infectious Diseases.

The purposes of the program are to:

1. Establish partnerships with national private provider organizations and associations to effectively utilize the combined resources of the public and private health care delivery systems.

2. Establish a mechanism to promote successful immunization programs, distribute current immunization information to the recipient constituency, and to gather information regarding the status of current programs at the grass-roots level.

3. Establish open lines of communication with the recipient organization and it's members for the purpose of sharing national goals and objectives for immunization programs.

Measurable outcomes of the program will be in alignment with the following performance goals for the National Immunization Program (NIP):

1. Reduce the number of indigenous cases of vaccine-preventable diseases by increasing the number of children, adolescents and adults receiving vaccines recommended by the Advisory Committee on Immunization Practices (ACIP).

2. Ensure that two year-olds are appropriately vaccinated.

3. Increase the proportion of adults who are vaccinated annually against influenza and are vaccinated, as recommended, against pneumococcal disease.

C. Eligible Applicants

Applications may be submitted by:

• Public nonprofit organizations

• Private nonprofit organizations

Health care providers have the greatest impact on the health of the public through provision of services and health information. To ensure that providers are receiving the most up-to-date and appropriate immunization information, it is important to form a collaboration between CDC and those organizations that providers are most likely to turn to for up-to-date practice information (i.e., their professional medical organizations). To maximize the number of providers who benefit from this collaboration, the application is limited to professional associations with active memberships of at least 3,000 health care providers.

Note: Title 2 of the United States Code section 1611 states that an organization described in section 501(c)(4) of the Internal Revenue Code that engages in lobbying activities is not eligible to receive Federal funds constituting an award, grant or loan.

D. Funding

Availability of Funds

Approximately $800,000 is available in FY 2003 to fund up to six awards. It is expected that the average award will be $130,000, ranging from $125,000 to $140,000. It is expected that the awards will begin on or about September 15, 2003, and will be made for a 12-month budget period within a project period of up to three years. Funding estimates may change.

Continuation awards within an approved project period will be made on the basis of satisfactory progress as evidenced by required reports and the availability of funds.

Use of Funds

Funds cannot be used for construction or renovation, to purchase or lease vehicles or vans, to purchase a facility to house project staff or carry out project activities, or to substitute new activities and expenditures for current ones.

Recipient Financial Participation

Matching funds are not required for this program.

Funding Preferences

Preference for funding may be given to:

1. Organizations with an immunization or public health focus that can be expanded or enhanced through funds.

2. Organizations with proven strategies to reach the largest audience.

3. Organizations showing new and innovative ways to reach new segments of the provider community.

E. Program Requirements

In conducting activities to achieve the purpose of this program, the recipient will be responsible for the activities listed under number 1. Recipient Activities. CDC will be responsible for the activities listed under number 2. CDC Activities.

1. Recipient Activities

a. Utilize recommendations by NIP, Advisory Committee on Immunization Practices (ACIP), American College of Physicians (ACP), American Academy of Pediatrics (AAP), and the American Academy of Family Physicians (AAFP) to create and distribute materials to promote the understanding, adoption, and use of those recommendations by health care providers, parents, and patients.

b. Establish and implement mechanisms for promoting effective immunization practices and programs, and support the incorporation of such practices within the facilities operated by affiliates.

c. Establish and implement a mechanism for distribution of current immunization news, practices, and strategies to health care providers within the constituency.

d. Participate in the planning of the organization's conferences and meetings on the national, regional, and state levels to ensure that appropriate priority is placed on strategies and model programs that increase immunization coverage levels.

e. Establish and implement mechanisms for evaluating the effectiveness of communication with the constituency regarding increased awareness in implementation of recommended practices.

2. CDC Activities

a. Provide technical assistance in implementing activities.

b. Identify major immunization issues.

c. Identify effective immunization programs.

d. Assist with setting program priorities.

e. Provide scientific collaboration for appropriate aspects of the activities.

f. Provide information on disease impact, vaccination coverage levels, and prevention strategies utilizing the recommendations of ACIP, ACP, AAP and AAFP.

g. Review immunization information developed by the recipient for accuracy and compliance with national recommendations.

h. Assist the recipient in evaluating the reach of the program and effectiveness of the materials produced.

F. Content

Letter of Intent (LOI)

A LOI is required for this program. The Program Announcement title and number must appear in the LOI. The narrative should be no more than two pages, single-spaced, printed on one side, with one-inch margins, and unreduced 12-point font. Your letter of intent will not be evaluated, but will be used to assist CDC in planning for the objective review for this program. The letter of intent should include the following information:

1. The name of the organization.

2. The primary contact person's name, mailing address, phone number, fax number and email address (if available).

3. The mission/activities of the organization.

4. The number of members in the organization.

Applications

The Program Announcement title and number must appear in the application. Use the information in the Program Requirements, Other Requirements, and Evaluation Criteria sections to develop the application content. Your application will be evaluated on the criteria listed, so it is important to follow them in laying out your program plan. The narrative should be no more than 35 pages, double-spaced, printed on one side, with one-inch margins, and unreduced 12-point font.

The narrative should consist of:

1. Organization Profile

a. Provide a narrative, including background information and information on the applicant organization, evidence of relevant experience in coordinating activities among constituents, and a clear understanding of the purpose of the project.

b. Include details of past experiences working with the constituency regarding promotion and education of immunization issues, or other healthcare issues. Provide information on organizational capability to conduct proposed project activities.

c. Profile qualified and experienced personnel who are available to work on the project and provide evidence of an organizational structure that can meet the terms of the project. Include an organizational chart of the applicant organization specifying the location and staffing plan for the proposed project.

2. Program Plan

a. Include goals and measurable impact and process objectives that are specific, realistic, and time-phased. Include an explanation of how the objectives contribute to the purposes of the request for assistance and evidence that demonstrates the potential effectiveness of the proposed objectives.

b. Detail an action plan, including a timeline of activities and personnel responsible for implementing each segment of the plan. The timeline should address activities to be conducted over the entire three-year project period.

c. Prepare a plan to include impact and process evaluation utilizing both quantitative and qualitative measures for the achievement of program objectives to determine the reach and effectiveness of the message promoted by the grantee, and monitor the implementation of proposed activities. Indicate how the quality of services provided will be ensured.

d. Provide a plan for disseminating project results indicating when, to whom, and in what format the material will be presented.

e. Provide a plan for obtaining additional resources from non-federal sources to supplement program activities and ensure continuation of the activities after the end of the project period.

3. Collaboration Activities

a. Obtain and include letters of support from local organizations and constituents indicating or committing to support the activities of this program.

b. Provide any memoranda of agreement from collaborating organizations indicating a willingness to participate in the project, the nature of their participation, period of performance, names and titles of individuals who will be involved in the project, and the process of collaboration. Each memorandum should also show an understanding and endorsement of immunization activities.

c. Provide evidence of collaborative efforts with health departments, provider organizations, coalitions, and other local organizations.

4. Budget Information

Provide a detailed budget with justification. The budget proposal should be consistent with the purpose and program plan of the proposed project.

G. Submission and Deadline

Letter of Intent (LOI) Submission

On or before May 26, 2003, submit the LOI to the Grants Management Specialist identified in the “Where to Obtain Additional Information” section of this announcement.

Application Forms

Submit the signed original and two copies of PHS 5161-1 (OMB Number 0920-0428). Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time June 19, 2003. Submit the application to: Technical Information Management-PA#03081, CDC Procurement and Grants Office, 2920 Brandywine Road, Atlanta, GA 30341-4146.

Applications may not be submitted electronically.

CDC Acknowledgement of Application Receipt

A postcard will be mailed by PGO-TIM, notifying you that CDC has received your application.

Deadline

Letters of intent and applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Letter of Intent

The Letter of Intent will not be evaluated, but will be used to assist CDC in planning for the review of applications.

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application against the following criteria:

1. Capability (40 points): The extent to which the applicant appears likely to succeed in implementing proposed activities as measured by relevant past experience, a sound management structure, and staff qualifications, including the appropriateness of their proposed roles and responsibilities and job descriptions.

The applicant must:

a. Have a demonstrated history of a constituency that provides immunization services including services to underserved, low-income, or minority populations.

b. Have a system in place for communicating with their constituents and providing them information in a timely manner.

2. Program Plan (30 points): The feasibility and appropriateness of the applicant's action plan to identify immunization issues and new developments, communicate with and reach targeted populations, and translate technical immunization information into appropriate formats.

3. Background and Need (20 points): The extent to which the applicant understands the problem of under-immunization and proposes a plan to address the issues specific to their constituents.

4. Evaluation Plan (10 points): The extent to which the applicant proposes to evaluate the proposed plan, including impact and process evaluation, as well as quantitative and qualitative measures for achievement of program objectives, determining the improvement in level of immunization knowledge among the constituency, identify improvements made in immunization delivery by providers within the constituency, and monitoring the implementation of proposed activities.

5. Budget and Justification (not scored): The extent to which the proposed budget is adequately justified, reasonable, and consistent with the proposed project activities and this program announcement.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC web site.

AR-10—Smoke-Free Workplace

AR-11—Healthy People 2010

AR-12—Lobbying Restriction

AR-14—Accounting System Requirements

AR-15—Proof of Non-Profit Status

AR-20—Conference Support

Executive Order 12372 does not apply to this program.

J. Where To Obtain Additional Information

This and other CDC announcements, the necessary applications, and associated forms can be found on the CDC web site, Internet address: http://www.cdc.gov.

Click on “Funding” then “Grants and Cooperative Agreements”.

For general questions about this announcement, contact: Technical Information Management, CDC Procurement and Grants Office, 2920 Brandywine Road, Atlanta, GA 30341-4146, Telephone: 770-488-2700.

For business management and budget assistance, contact: Peaches Brown, Grants Management Specialist, Procurement and Grants Office, Centers for Disease Control and Prevention, 2920 Brandywine Road, Atlanta, GA 30341-4146, Telephone: 770-488-2738, E-mail address: prb0@cdc.gov.

For program technical assistance, contact: Valerie Morelli, Health Communication Specialist, Education, Information, and Partnership Branch, Immunization Services Division, National Immunization Program, Centers for Disease Control and Prevention, 1600 Clifton Road, M/S E-52, Atlanta, Georgia 30333, Telephone: 404-639-8091, E-mail address: vxm4@cdc.gov.

Dated: April 30, 2003.
Sandra R. Manning,
Director, Procurement and Grants Office, Centers for Disease Control and Prevention.

[FR Doc. 03-10980 Filed 5-2-03; 8:45 am]

BILLING CODE 4163-18-P